DEPARTMENT OF COMMERCE

Bureau of Industry and Security

15 CFR Part 744

[Docket No. 190925-0044]

RIN 0694-AH68

Addition of Certain Entities to the Entity List

AGENCY: Bureau of Industry and Security, Commerce.

ACTION: Final rule.

SUMMARY: This final rule amends the Export Administration Regulations (EAR) by adding twenty-eight entities to the Entity List. These twenty-eight entities have been determined by the U.S. Government to be acting contrary to the foreign policy interests of the United States and will be listed on the Entity List under the destination of the People's Republic of China (China).

DATES: This rule is effective October 9, 2019.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (15 CFR, Subchapter C, part 744, Supplement No. 4) identifies entities reasonably believed to be involved, or to pose a significant risk of being or becoming involved, in activities contrary to the national security or foreign policy interests of the United States. The Export Administration Regulations (EAR) (15 CFR parts 730-774) impose additional license requirements on, and limits the availability of most license exceptions for, exports, reexports, and transfers (in country) to listed entities. The license review policy for each listed entity is identified in the “License review policy” column on the Entity List, and the impact on the availability of license exceptions is described in the relevant Federal Register notice adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

ERC Entity List Decisions

Additions to the Entity List

This rule implements the decision of the ERC to add twenty-eight entities to the Entity List. The twenty-eight entities are being added based on § 744.11 (License requirements that apply to entities acting contrary to the national security or foreign policy interests of the United States) of the EAR. The twenty-eight entries are located in China.

The ERC reviewed and applied § 744.11(b) (Criteria for revising the Entity List) in making the determination to add these twenty-eight entities to the Entity List. Under that paragraph, persons for whom there is reasonable cause to believe, based on specific and articulable facts, that they have been involved, are involved, or pose a significant risk of being or becoming involved in activities that are contrary to the national security or foreign policy interests of the United States, along with those acting on behalf of such persons, may be added to the Entity List. Paragraphs (b)(1) through (b)(5) of § 744.11 provide an illustrative list of activities that could be contrary to the national security or foreign policy interests of the United States. For each of the twenty-eight entities described below, the ERC made the requisite determination under the standard set forth in § 744.11(b).

Pursuant to § 744.11(b) of the EAR, the ERC determined that the Xinjiang Uighur Autonomous Region (XUAR) People's Government Public Security Bureau, eighteen of its subordinate municipal and county public security bureaus and one other subordinate institute are engaging in activities contrary to the foreign policy interests of the United States, and eight additional entities are enabling activities contrary to the foreign policy interests of the United States. Specifically, these entities have been implicated in human rights violations and abuses in the implementation of China's campaign of repression, mass arbitrary detention, and high-technology surveillance against Uighurs, Kazakhs, and other members of Muslim minority groups in the XUAR.

The entities are as follows: Xinjiang Uighur Autonomous Region (XUAR) People's Government Public Security Bureau, eighteen of its subordinate municipal and county public security bureaus, and one other subordinate institute:—Aksu District Public Security Bureau; Altay Municipality Public Security Bureau; Bayingolin Mongolian Autonomous Prefecture Public Security Bureau; Boertala Mongolian Autonomous Prefecture Public Security Bureau; Changji Hui Autonomous Prefecture Public Security Bureau; Hami Municipality Public Security Bureau; Hetian Prefecture Public Security Bureau; Kashgar Prefecture Public Security Bureau; Kelamayi Municipality Public Security Bureau; Kezilesu Kyrgyz Autonomous Prefecture Public Security Bureau; Shihezi Municipality Public Security Bureau; Tacheng Prefecture Public Security Bureau; Tumushuke Municipal Public Security Bureau; Turfan Municipality Public Security Bureau; Urumqi Municipal Public Security Bureau; Wujiaqu Municipality Public Security Bureau; Xinjiang Police College; Xinjiang Production and Construction Corps (XPCC) Public Security Bureau; and Yili Kazakh Autonomous Prefecture Public Security Bureau.

The following eight entities are also added to the Entity List as part of this rule: Dahua Technology; Hikvision; IFLYTEK; Megvii Technology; Sense Time, Xiamen Meiya Pico Information Co. Ltd.; Yitu Technologies; and Yixin Science and Technology Co. Ltd. Pursuant to § 744.11(b) of the EAR, the ERC has determined that the conduct of these twenty-eight entities raises sufficient concern that prior review of exports, reexports or transfers (in-country) of all items subject to the EAR involving these entities, and the possible imposition of license conditions or license denials on shipments to the persons, will enhance BIS's ability to prevent items subject to the EAR from being used in activities contrary to the foreign policy of the United States.

For the twenty-eight entities described above that are being added to the Entity List, BIS imposes a license requirement for all items subject to the EAR and a license review policy of case-by-case review for Export Control Classification Numbers (ECCNs) 1A004.c, 1A004.d, 1A995, 1A999.a, 1D003, 2A983, 2D983, and 2E983. A policy of case-by-case review also applies to items designated as EAR99 that are described in the Note to ECCN 1A995, specifically, items for protection against chemical or biological agents that are consumer goods, packaged for retail sale or personal use, or medical products. BIS has adopted a license review policy of presumption of denial for all other items subject to the EAR. For all twenty-eight entities, the license requirements apply to any transaction in which items are to be exported, reexported, or transferred (in country) to any of the entities or in which such entities act as purchaser, intermediate consignee, ultimate consignee, or end user. In addition, no license exceptions are available for exports, reexports, or transfers (in-country) to the entities being added to the Entity List in this rule. The acronym “a.k.a.” or also known as is used in entries on the Entity List to identify aliases, thereby assisting exporters, reexporters and transferors in identifying entities on the Entity List.

This final rule adds the following twenty-eight entities to the Entity List and includes, where appropriate, aliases:

People's Republic of China

• Aksu District Public Security Bureau, including one alias (Aqsu District Public Security Bureau);

• Altay Municipality Public Security Bureau;

• Bayingolin Mongolian Autonomous Prefecture Public Security Bureau;

• Boertala Mongolian Autonomous Prefecture Public Security Bureau, including one alias (Bortala Mongolian Autonomous Prefecture Public Security Bureau);

• Changji Hui Autonomous Prefecture Public Security Bureau;

• Dahua Technology;

• Hami Municipality Public Security Bureau, including two aliases (Kumul Municipality Public Security Bureau; and Qumul Municipality Public Security Bureau);

• Hetian Prefecture Public Security Bureau;

• Hikvision;

• IFLYTEK;

• Kashgar Prefecture Public Security Bureau;

• Kelamayi Municipality Public Security Bureau;

• Kezilesu Kyrgyz Autonomous Prefecture Public Security Bureau, including one alias (Kizilsu Autonomous Prefecture Public Security Bureau);

• Megvii Technology;

• Sense Time;

• Shihezi Municipality Public Security Bureau;

• Tacheng Prefecture Public Security Bureau;

• Tumushuke Municipal Public Security Bureau, including one alias (Tumxuk Municipal Public Security Bureau);

• Turfan Municipality Public Security Bureau, including one alias (Turpan Municipality Public Security Bureau);

• Urumqi Municipal Public Security Bureau;

• Wujiaqu Municipality Public Security Bureau;

• Xiamen Meiya Pico Information Co. Ltd.;

• Xinjiang Police College;

• Xinjiang Production and Construction Corps (XPCC) Public Security Bureau;

• Xinjiang Uighur Autonomous Region (XUAR) People's Government Public Security Bureau;

• Yili Kazakh Autonomous Prefecture Public Security Bureau, including one alias (Ili Kazakh Autonomous Prefecture Public Security Bureau);

• Yitu Technologies;

• Yixin Science and Technology Co. Ltd., including four aliases (Yixin Technology; Yuxin Technology; Yuxin Science and Technology; and Ecguard).

Savings Clause

Shipments of items removed from eligibility for a License Exception or for export or reexport without a license (NLR) as a result of this regulatory action that were en route aboard a carrier to a port of export or reexport, on October 9, 2019, pursuant to actual orders for export or reexport to a foreign destination, may proceed to that destination under the previous eligibility for a License Exception or export or reexport without a license (NLR).

Export Control Reform Act of 2018

On August 13, 2018, the President signed into law the John S. McCain National Defense Authorization Act for Fiscal Year 2019, which included the Export Control Reform Act of 2018 (ECRA) (50 U.S.C. 4801-4852) that provides the legal basis for BIS's principal authorities and serves as the authority under which BIS issues this rule. As set forth in Section 1768 of ECRA, all delegations, rules, regulations, orders, determinations, licenses, or other forms of administrative action that have been made, issued, conducted, or allowed to become effective under the Export Administration Act of 1979 (50 U.S.C. 4601 et seq.) (as in effect prior to August 13, 2018 and as continued in effect pursuant to the International Emergency Economic Powers Act (50 U.S.C. 1701 et seq.) and Executive Order 13222 of August 17, 2001, 3 CFR, 2001 Comp., p. 783 (2002), as amended by Executive Order 13637 of March 8, 2013, 78 FR 16129 (March 13, 2013), and as extended by the Notice of August 14, 2019, 84 FR 41881 (August 15, 2019)), or the Export Administration Regulations, and are in effect as of August 13, 2018, shall continue in effect according to their terms until modified, superseded, set aside, or revoked under the authority of ECRA.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications, and carries a burden estimate of 42.5.8 minutes for a manual or electronic submission.

Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. Pursuant to § 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 is revised to read as follows:

Authority: 50 U.S.C. 4801-4552; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2019, 83 FR 47799 (September 20, 2019); Notice of November 8, 2018, 83 FR 56253 (November 9, 2018); Notice of January 16, 2019, 84 FR 127 (January 18, 2019); Notice of August 14, 2019, 84 FR 41881 (August 15, 2019).

2. Supplement No. 4 to part 744 is amended by adding in alphabetical order, under CHINA, PEOPLE'S REPUBLIC OF, twenty-eight Chinese entities: “Aksu District Public Security Bureau”, “Altay Municipality Public Security Bureau”, “Bayingolin Mongolian Autonomous Prefecture Public Security Bureau”, “Boertala Mongolian Autonomous Prefecture Public Security Bureau”, “Changji Hui Autonomous Prefecture Public Security Bureau”, “Dahua Technology”, “Hami Municipality Public Security Bureau”, “Hetian Prefecture Public Security Bureau”, “Hikvision”, “IFLYTEK”, “Kashgar Prefecture Public Security Bureau”, “Kelamayi Municipality Public Security Bureau”, “Kezilesu Kyrgyz Autonomous Prefecture Public Security Bureau”, “Megvii Technology”, “Sense Time”, “Shihezi Municipality Public Security Bureau”, “Tacheng Prefecture Public Security Bureau”, “Tumushuke Municipal Public Security Bureau”, “Turfan Municipality Public Security Bureau”, “Urumqi Municipal Public Security Bureau”, “Wujiaqu Municipality Public Security Bureau”, “Xiamen Meiya Pico Information Co. Ltd.”, “Xinjiang Police College”, “Xinjiang Production and Construction Corps (XPCC) Public Security Bureau”, “Xinjiang Uighur Autonomous Region (XUAR) People's Government Public Security Bureau”, “Yili Kazakh Autonomous Prefecture Public Security Bureau”, “Yitu Technologies” and “Yixin Science and Technology Co. Ltd.”.

The additions read as follows:

Supplement No. 4 to Part 744—Entity List

Country | Entity | License requirement | License review policy | Federal Register citation
* * * * * * *
CHINA, PEOPLE'S REPUBLIC OF | * * * * * *
| Aksu District Public Security Bureau, a.k.a., the following one alias: —Aqsu District Public Security Bureau. Yingbin Rd., Akesu City XUAR 843000, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| Altay Municipality Public Security Bureau, North West Rd., Alta y City, XUAR, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Bayingolin Mongolian Autonomous Prefecture Public Security Bureau, Yingxia Rd., Korla City, XUAR 841000, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Boertala Mongolian Autonomous Prefecture Public Security Bureau, a.k.a., the following one alias: —Bortala Mongolian Autonomous Prefecture Public Security Bureau. Qingdeli St., Bole City, XUAR, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Changji Hui Autonomous Prefecture Public Security Bureau, 56 Yan'an N. Rd., Changji City, XUAR 831100, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Dahua Technology, 807, Block A, Meike Building No. 506, Beijing South Road, New City, Urumqi, Xinjiang, China; 1199 Bin'an Road, Binjiang High-tech Zone, Hangzhou, China; and 6/F, Block A, Dacheng Erya, Huizhan Avenue, Urumqi, China; and No. 1187, Bin'an Road, Binjiang District, Hangzhou City, Zhejiang Province, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Hami Municipality Public Security Bureau, a.k.a., the following two aliases: —Kumul Municipality Public Security Bureau, and —Qumul Municipality Public Security Bureau. Huancheng Rd., Hami District, Hami City, XUAR, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Hetian Prefecture Public Security Bureau, a.k.a., the following one alias: —Hotan Prefecture Public Security Bureau. 92 Beijing W Rd., Heitan City, Hetian Prefecture, XUAR 848000, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| Hikvision. No. 555 Qianmo Road, Binjiang District, Hangzhou 310052, China; and 23rd Floor, Block A, Yingke Plaza, No. 217 Gaoxin Street, Gaoxin District, Urumqi, China; and 700 Dongliu Road, Binjiang District, Hanzhou, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| IFLYTEK, National Intelligent Speech High-tech Industrialization Base, No. 666, Wangjiang Road West, Hefei City, Anhui Province, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Kashgar Prefecture Public Security Bureau, a.k.a., the following one alias: —Kashi Prefecture Public Security Bureau. Youmulake Xiehai'er Rd., Kashgar (“Kashi”) City, XUAR 844000, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| Kelamayi Municipality Public Security Bureau, a.k.a, the following two aliases: —Karamay Municipality Public Security Bureau; and —Qaramay Municipality Public Security Bureau. 52 Yingbin Rd., Kelamayi City, Kelamayi District, XUAR 834000, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| Kezilesu Kyrgyz Autonomous Prefecture Public Security Bureau, a.k.a., the following one alias: —Kezilsu Autonomous Prefecture Public Security Bureau. Guangming Rd., Atushi City, XUAR 845350, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Megvii Technology, 3rd Floor, Block A, Rongke Information Center, No. 2 South Road, Haidian District, Beijing, China; and Floor 3rd Unit A Raycom Infotech Park, No 2 Kexueyuan, Beijing, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Sense Time, 5F, Block B, Science and Technology Building,Tsing-hua Science Park, Haidian District, Beijing, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Shihezi Municipality Public Security Bureau, 209 N. Fourth Rd., Shihezi City, XUAR 832000, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Tacheng Prefecture Public Security Bureau, Tuanjie Rd. Tacheng City, XUAR 834700, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Tumushuke Municipal Public Security Bureau, a.k.a., the following one alias: —Tumxuk Municipal Public Security Bureau. Qian Hai West Rd., Tumushuke City, XUAR S21866, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| Turfan Municipality Public Security Bureau, a.k.a., the following one alias: —Turpan Municipality Public Security Bureau. 2447 Gaochang N. Rd., Turfan City, Gaocheng District, XUAR 838000, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Urumqi Municipal Public Security Bureau, 339 Hebei East Rd., Urumqi XUAR, China and New China North Road, XUAR, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Wujiaqu Municipality Public Security Bureau, 676 Changan W Rd., Wujiaqu City, XUAR 831300, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Xiamen Meiya Pico Information Co. Ltd., No. 131, Unit 1, Building 1, Tuman Road Construction Company, Kashi City, Xinjiang; and Room 1504, Block B, Sunshine 100 Commercial Complex 333, Qiantangjiang Road, Urumqi, Xinjiang, China; and Meiya Pico Building, 12, Guanri Road, 2nd Phase of Xiamen Software Park, Xiamen, Fujian, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Xinjiang Police College, Xinshi District, Changsha Road, No. 1108, Urumqi, Xinjiang, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| Xinjiang Production and Construction Corps (XPCC) Public Security Bureau, 106 Guangming Rd., Urumqi, Tianshan, XUAR, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| Xinjiang Uighur Autonomous Region (XUAR) People's Government Public Security Bureau, 28 Qiantangjiang Rd., Shayibake District, Urumqi, XUAR, 830006, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| Yili Kazakh Autonomous Prefecture Public Security Bureau, a.k.a., the following one alias: —Ili Kazakh Autonomous Prefecture Public Security Bureau. Sidalin W Rd., Yining City, XUAR 835000, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Yitu Technologies, 23F, Shanghai Arch Tower I, 523 Loushanguan Rd, Changning District, Shanghai, China. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
| Yixin Science and Technology Co. Ltd., a.k.a., the following four aliases: —Yixin Technology; —Yuxin Technology; —Yuxin Science and Technology; and —Ecguard. 216 Qiantangjiang Rd., Urumqi, Xinjiang, China; and 17th Floor Tong Guang Building, No 12 Beijing Agricultural Exhibition South, Chaoyang District, Beijing, China; and 17F Tongguang Mansion # 12 Nongzhannanli, Chaoyang, Beijing, China; and 216 Qiantangjiang Road, Urumqi, Xinjiang. | For all items subject to the EAR (See § 744.11 of the EAR). | Case-by-case review for ECCNs 1A004.c, 1A004.d, 1A995, 1A999.a, 1D003, 2A983, 2D983, and 2E983, and for EAR99 items described in the Note to ECCN 1A995; presumption of denial for all other items subject to the EAR | 84 FR [INSERT FR PAGE NUMBER] 10/9/19.
| * * * * * *
* * * * * * *

Dated: October 7, 2019.
Richard E. Ashooh,
Assistant Secretary for Export Administration.

[FR Doc. 2019-22210 Filed 10-7-19; 4:15 pm]

BILLING CODE 3510-33-P